DEPARTMENT OF COMMERCE

National Oceanic and Atmospheric Administration

50 CFR Part 648

[Docket No. 220502-0109; RTID 0648-XB884]

Fisheries of the Northeastern United States; Atlantic Mackerel, Squid, and Butterfish Fisheries; Final 2022 Specifications

AGENCY: National Marine Fisheries Service (NMFS), National Oceanic and Atmospheric Administration (NOAA), Commerce.

ACTION: Final rule.

SUMMARY: NMFS is finalizing specifications for fishing year 2022 for the chub mackerel, butterfish, longfin squid, and Illex squid fisheries. This action is necessary to reaffirm previously approved projected allowable harvest levels that will prevent overfishing and allow harvesting of optimum yield for all the species of the Mackerel, Squid, and Butterfish Fishery Management Plan. These specifications are intended to promote the sustainable utilization and conservation of the mackerel, squid, and butterfish resources.

DATES: Effective May 10, 2022.

FOR FURTHER INFORMATION CONTACT: Aly Pitts, Fishery Management Specialist, (978) 281-9352.

SUPPLEMENTARY INFORMATION: The regulations implementing the Mackerel, Squid, and Butterfish Fishery Management Plan (FMP) require the Mid-Atlantic Fishery Management Council's Mackerel, Squid, and Butterfish Monitoring Committee to develop specification recommendations for each species based upon the acceptable biological catch (ABC) advice of the Council's Scientific and Statistical Committee (SSC).

On July 22, 2021 (86 FR 38586), we published a final rule in the Federal Register setting new 2021 and projected specifications for fishing year 2022 butterfish and Illex squid, while maintaining the current longfin squid, Atlantic mackerel, and chub mackerel specifications for 2021 and projected for 2022-2023. The proposed rule for that action included additional background on specifications and the details of how the Council derived its recommended specifications for Atlantic mackerel, chub mackerel, Illex squid, longfin squid, and butterfish. Those details are not repeated here; for additional information, please refer to the proposed rule for that action. This action will reaffirm the 2022 specifications for chub mackerel, Illex squid, longfin squid, and butterfish (Table 1, 2, 3, 4, 5, and 6). The Atlantic mackerel specifications for 2022 were set by a separate action, effective on January 7, 2022 (87 FR 1700), and are not modified by this action.

Table 1—Longfin Squid Final 2022 Specifications
Specification | Metric tons
Overfishing Limit (OFL) | Unknown.
Acceptable Biological Catch (ABC) | 23,400.
Initial Optimum Yield (IOY) | 22,932.
Domestic Annual Harvest (DAH), Domestic Annual Processing (DAP) | 22,932.

Table 2—Longfin Quota Trimester Allocations Final 2022 Specifications
Trimester | Percent | Metric tons
I (Jan-Apr) | 43 | 9,861
II (May-Aug) | 17 | 3,898
III (Sep-Dec) | 40 | 9,173

Table 3—Butterfish Final 2022 Specifications
Specification | Metric tons
OFL | 24, 341
ABC | 17,854
Annual Catch Target (ACT) | 16,961
Assumed discards | 637
Total discards | 5,466
Butterfish cap in longfin fishery | 3,884
DAH | 11,495

Table 4—2022 Trimester Allocation of Butterfish Mortality Cap on the Longfin Squid Fishery
Trimester | Percent | Metric tons
I (Jan-Apr) | 43 | 1,670
II (May-Aug) | 17 | 660
III (Sep-Dec) | 40 | 1,554
Total | 100 | 3,844

Table 5—Illex Squid Final 2022 Specifications
Specification | Metric tons
OFL | Unknown.
ABC | 33,000.
IOY | 31,478.
DAH/DAP | 31,478.

Table 6—Atlantic Chub Mackerel Final 2022 Specifications
Specification | Metric tons
ABC | 2,300
ACL | 2,262
ACT | 2,171
Total Allowable Landings | 2,041

Classification

The NMFS Assistant Administrator has determined that this final rule is consistent with the Mackerel, Squid, and Butterfish Fishery Management Plan, the Magnuson-Stevens Fishery Conservation and Management Act, and other applicable law.

This rule is exempt from review under Executive Order 12866 because this action contains no implementing regulations.

Pursuant to 5 U.S.C. 553(b)(B), we find good cause to waive prior public notice and opportunity for public comment on the catch limit and allocation adjustments, because allowing time for notice and comment would be unnecessary and contrary to the public interest. The proposed rule for the 2021-2023 specifications provided the public with the opportunity to comment on the specifications, including the projected 2022 through 2023 specifications (86 FR 28323, May 26, 2021). The 2022 specifications presented here were previously approved through the 2021-2023 specifications and this final rule is intended to officially reaffirm these specifications. Further, this final rule contains no changes from the projected 2022 specifications that were included in both the May 26, 2021, proposed rule and the July 22, 2021, final rule. The butterfish specifications were decreased by 72 percent in 2021 from 2020, but this rule increases the allowable catch by 53 percent. Implementing these specifications will reduce the likelihood of an unnecessary closure of the butterfish fishery and will avoid confusion. The public and industry participants expect this action. Through both the proposed rule and final rules for the 2021-2023 specifications, we alerted the public that we would conduct a review of the latest available data in each of the interim years of the multi-year specifications and may make changes if warranted. Thus, the proposed and final rules that contained the projected 2021-2023 specifications provided a full opportunity for the public to comment on the substance and process of this action. Based on these considerations, we further find, pursuant to 5 U.S.C. 553 (d)(3), good cause to waive the 30-day delayed effectiveness period for the reasons stated above.

The Chief Counsel for Regulation, Department of Commerce, previously certified to the Chief Counsel for Advocacy of the Small Business Administration (SBA) that the 2022 chub mackerel, Illex squid, longfin quid, and butterfish specifications would not have a significant economic impact on a substantial number of small entities. Implementing the 2022 specifications will not change the conclusions drawn in that previous certification to the SBA. Because advance notice and the opportunity for public comment are not required for this action under the Administrative Procedure Act, or any other law, the analytical requirements of the Regulatory Flexibility Act, 5 U.S.C. 601, et seq., do not apply to this rule. Therefore, no new regulatory flexibility analysis is required and none has been prepared.

This action does not contain a collection of information requirement for the purposes of the Paperwork Reduction Act.

Authority: 16 U.S.C. 1801 et seq.

Dated: May 2, 2022.
Samuel D. Rauch, III
Deputy Assistant Administrator for Regulatory Programs, National Marine Fisheries Service.

[FR Doc. 2022-09686 Filed 5-9-22; 8:45 am]

BILLING CODE 3510-22-P